DEPARTMENT OF AGRICULTURE

Submission for OMB Review; Comment Request

September 17, 2019.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by October 23, 2019. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

National Agricultural Statistics Service

Title: Grain Farm to Market Transportation Survey.

OMB Control Number: 0535-0264.

Summary of Collection: The primary objectives of the National Agricultural Statistics Service (NASS) are to prepare and issue official State and national estimates of crop and livestock production, disposition and prices, economic statistics, and environmental statistics related to agriculture and to conduct the Census of Agriculture and its follow-on surveys. NASS will conduct a survey of select agricultural operations in Illinois, Indiana, Iowa, Kansas, and Nebraska. Each selected farmer or rancher will be asked to provide data on (1) Vehicle inventory, (2) Vehicles used for grain transportation in crop year 2019, and (3) Distance by road type to primary and secondary delivery points in crop year 2019. General authority for these data collection activities is granted under U.S.C. Title 7, Section 2204.

Need and Use of the Information: A significant component of agriculture is transportation of commodities to market. Effective equipment and infrastructure is necessary for farmers to transport harvested commodities to market. Farmers may use the results for their own investment and productivity assessments. Local and regional planners and policy makers can use the information in calibrating travel demand and freight flow models for investment and asset management choices. The United States Department of Agriculture's Agricultural Marketing Service has entered into an interagency agreement with NASS to conduct a Grain Farm to Market Transportation Survey. The purpose of the survey is to provide information about farm truck inventory and grain marketing patterns in selected States for commodity year 2019.

Description of Respondents: A sample of all active agricultural operations in Illinois, Indiana, Iowa, Kansas, and Nebraska that produce:

• Over 300 combined acres of corn, soybeans, and wheat in Kansas, and

• Over 300 combined acres of corn in soybeans in Illinois, Indiana, Iowa, and Nebraska.

Number of Respondents: 5,000.

Frequency of Responses: Reporting: Once a year.

Total Burden Hours: 2,337.

Kimble Brown,
Departmental Information Collection Clearance Officer

[FR Doc. 2019-20468 Filed 9-20-19; 8:45 am]

BILLING CODE 3410-20-P